ENVIRONMENTAL PROTECTION AGENCY

40 CFR Part 271

[FRL-7174-4]

Wisconsin: Final Authorization of State Hazardous Waste Management Program Revision

AGENCY: Environmental Protection Agency (EPA).

ACTION: Withdrawal of Immediate final rule.

SUMMARY: We are withdrawing the immediate final rule for Wisconsin: Final Authorization of State Hazardous Waste Management Program Revision published on March 1, 2002, which approved changes to its hazardous waste program under the Resource Conservation and Recovery Act (RCRA). We stated in the immediate final rule that if we received written comments that oppose this authorization during the comment period, we would publish a timely withdrawal in the Federal Register. Subsequently, we received comments that oppose this action. We will address these comments in a subsequent final action based on the proposed rule also published on March 1, 2002, at 67 FR 9427.

DATES: As of April 22, 2002, we withdraw the immediate final rule published on March 1, 2002 at 67 FR 9406.

FOR FURTHER INFORMATION CONTACT: Jean Gromnicki, Wisconsin Regulatory Specialist, U.S. EPA Region 5, DM-7J, 77 West Jackson Boulevard, Chicago, Illinois 60604, (312) 886-6162.

SUPPLEMENTARY INFORMATION: Because we received written comments that oppose this authorization, we are withdrawing the immediate final rule for Wisconsin: Final Authorization of State Hazardous Waste Management Program Revision published on March 1, 2002, at 67 FR 9406, which intended to grant authorization for revision to Wisconsin's hazardous waste program under the Resource Conservation and Recovery Act (RCRA). We stated in the immediate final rule that if we received written comments that oppose this authorization during the comment period, we would publish a timely notice of withdrawal in the Federal Register. Subsequently, we received comments that oppose this action. We will address all comments in a subsequent final action based on the proposed rule previously published on March 1, 2002, at 67 FR 9427. We will not provide for additional comment during the final action.

Dated: April 11, 2002.
William E. Muno,
Acting Regional Administrator, Region 5.

[FR Doc. 02-9789 Filed 4-19-02; 8:45 am]

BILLING CODE 6560-50-P